DEPARTMENT OF JUSTICE

Office of Justice Programs

[OJP (NIJ) Docket No. 1649]

Selection and Application Guide to Ballistic-Resistant Body Armor for Law Enforcement, Corrections and Public Safety (NIJ Selection and Application Guide-0101.06)

AGENCY: National Institute of Justice, DOJ.

ACTION: Notice and Request for Comments

SUMMARY: In an effort to obtain comments from interested parties, the U.S. Department of Justice, Office of Justice Programs, National Institute of Justice (NIJ) will make available to the general public the draft Selection and Application Guide to Ballistic-Resistant Body Armor: For Law Enforcement, Corrections and Public Safety. The opportunity to provide comments on these documents is open to industry technical representatives, law enforcement agencies and organizations, research, development and scientific communities, and all other stakeholders and interested parties. Those individuals wishing to obtain and provide comments on the draft documents under consideration are directed to the following Web site: https://www.justnet.org/body_armor/SAGPC.html

DATES: Comments will be accepted through 11:59 p.m. E.T. on March 25, 2014.

FOR FURTHER INFORMATION CONTACT: Daniel Longhurst, by telephone at 202-616-3857, or by email at Daniel.A.Longhurst@usdoj.gov

Gregory K. Ridgeway,
Acting Director, National Institute of Justice.

[FR Doc. 2014-05028 Filed 3-7-14; 8:45 am]

BILLING CODE 4410-18-P